SECURITIES AND EXCHANGE COMMISSION

[Release No. IC-27107]

Notice of Applications for Deregistration Under Section 8(f) of the Investment Company Act of 1940

September 30, 2005.

The following is a notice of applications for deregistration under section 8(f) of the Investment Company Act of 1940 for the month of September, 2005. A copy of each application may be obtained for a fee at the SEC's Public Reference Branch (tel. (202) 551-5850). An order granting each application will be issued unless the SEC orders a hearing. Interested persons may request a hearing on any application by writing to the SEC's Secretary at the address below and serving the relevant applicant with a copy of the request, personally or by mail. Hearing requests should be received by the SEC by 5:30 p.m. on October 25, 2005, and should be accompanied by proof of service on the applicant, in the form of an affidavit or, for lawyers, a certificate of service. Hearing requests should state the nature of the writer's interest, the reason for the request, and the issues contested. Persons who wish to be notified of a hearing may request notification by writing to the Secretary, U.S. Securities and Exchange Commission, 100 F Street, NE.,Washington, DC 20549-9303.

FOR FURTHER INFORMATION CONTACT: Diane L. Titus at (202) 551-6810, SEC, Division of Investment Management, Office of Investment Company Regulation, 100 F Street, NE., Washington, DC 20549-0504.

The Aquinas Funds, Inc. [File No. 811-8122]

Summary: Applicant seeks an order declaring that it has ceased to be an investment company. On July 8, 2005, applicant transferred its assets to corresponding series of LKCM Funds, based on net asset value. Expenses of $35,457 incurred in connection with the reorganization were paid by Aquinas Investment Advisers, Inc., applicant's investment adviser, and Luther King Capital Management Corporation, the surviving fund's investment adviser.

Filing Date: The application was filed on September 1, 2005.

Applicant's Address: 5310 Harvest Hill Rd., Suite 248, Dallas TX 75230.

AllianceBernstein Capital Reserves [File No. 811-2835]

AllianceBernstein Government Reserves [File No. 811-2889]

AllianceBernstein Municipal Trust [File No. 811-3586]

Summary: Each applicant seeks an order declaring that it has ceased to be an investment company. On June 24, 2005, each applicant made a liquidating distribution to its shareholders, based on net asset value. Applicants incurred no expenses in connection with the liquidations.

Filing Date: The applications were filed on September 9, 2005.

Applicants' Address: 1345 Avenue of the Americas, New York, NY 10105.

BLK Subsidiary Inc. [File No. 811-8453]

Summary: Applicant, a closed-end investment company, seeks an order declaring that it has ceased to be an investment company. On June 30, 2001, applicant made a liquidating distribution to its shareholders, based on net asset value. Applicant incurred no expenses in connection with the liquidation.

Filing Date: The application was filed on August 31, 2005.

Applicant's Address: 100 Bellevue Parkway, Wilmington, DE 19809.

The BlackRock 2001 Term Trust Inc. [File No. 811-6710]

The BlackRock Strategic Term Trust Inc. [File No. 811-6189]

Summary: Each applicant, a closed-end investment company, seeks an order declaring that it has ceased to be an investment company. On June 29, 2001 and December 30, 2002, respectively, each applicant made a liquidating distribution to its shareholders, based on net asset value. Each applicant incurred $28,000 in expenses in connection with its liquidation.

Filing Date: The applications were filed on August 31, 2005.

Applicants' Address: 100 Bellevue Parkway, Wilmington, DE 19809.

CCMI Funds [File No. 811-6561]

Summary: Applicant seeks an order declaring that it has ceased to be an investment company. On March 21, 2005, applicant transferred its assets to STI Classic Fund, based on net asset value. Expenses of $212,200 incurred in connection with the reorganization were paid by Trusco Capital Management, Inc., investment adviser of the acquiring fund.

Filing Dates: The application was filed on July 21, 2005 and amended on September 7, 2005.

Applicant's Address: 431 North Pennsylvania St., Indianapolis, IN 46204.

Oppenheimer Select Managers Series [File No. 811-10153]

Summary: Applicant seeks an order declaring that it has ceased to be an investment company. Between September 4, 2003 and November 7, 2003, each series of applicant transferred its assets to corresponding series of Oppenheimer Main Street Funds, Inc., Oppenheimer Growth Fund, Oppenheimer Balanced Fund, Oppenheimer Series Fund, Inc. or Oppenheimer MidCap Fund, based on net asset value. Expenses of approximately $210,757 incurred in connection with the reorganization were paid by applicant.

Filing Dates: The application was filed on April 19, 2005, and amended on August 24, 2005.

Applicant's Address: 6803 S. Tucson Way, Centennial, CO 80112.

The BlackRock Target Term Trust Inc. [File No. 811-5657]

The BlackRock 1998 Term Trust Inc. [File No. 811-6284]

The BlackRock 1999 Term Trust Inc. [File No. 811-7312]

Summary: Each applicant, a closed-end investment company, seeks an order declaring that it has ceased to be an investment company. By September 28, 2001, each applicant had made a liquidating distribution to its shareholders based on net asset value. Each applicant incurred $28,000 in expenses in connection with the liquidations.

Filing Dates: The applications were filed on January 7, 2002, and amended on August 31, 2005.

Applicants' Address: 100 Bellevue Parkway, Wilmington, DE 19809.

Navellier Variable Insurance Series Fund, Inc. [File No. 811-8079]

Summary: Applicant seeks an order declaring that it has ceased to be an investment company. On September 26, 2003, the Board of Directors voted to liquidate the applicant. On May 26, 2004, the applicant made liquidating distributions to its shareholders, based on net asset value. Expenses of $60,384.32 incurred in connection with the liquidation were paid by Navellier & Associates, Inc.

Filing Dates: The application was filed on December 8, 2004 and amended and restated on September 13, 2005.

Applicant's Address: One East Liberty, Third Floor, Reno, NV 89501.

For the Commission, by the Division of Investment Management, pursuant to delegated authority.
Jonathan G. Katz,
Secretary.

[FR Doc. E5-5488 Filed 10-5-05; 8:45 am]

BILLING CODE 8010-01-P